DEPARTMENT OF LABOR

Employment and Training Administration

[TA-W-56,299, TA-W-56,299A, TA-W-56,299B, TA-W-56,299C]

Atlas Textile Company, Inc., Commerce, CA, Including Employees of Atlas Textile Company, Inc. Commerce, CA, Located in: Sunlakes, AZ; Irving TX; Westwood, NJ; Amended Notice of Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on February 8, 2005, applicable to workers of Atlas Textile Company, Inc., Commerce, California. The notice was published in the Federal Register on March 9, 2005 (70 FR 11704).

At the request of the State agency, the Department reviewed the certification for workers of the subject firm. New information shows that worker separations have occurred involving employees of the Commerce, California facility of Atlas Textile Company, Inc. located in Sunlakes, Arizona, Irving, Texas and Westwood, New Jersey. These employees provided sales support services for the production of coordinated bed sheet sets, comforter sets, kitchen and bath towel sets and displays at the Commerce, California location of the subject firm.

Based on these findings, the Department is amending this certification to include employees of the Commerce, California facility of Atlas Textile Company, Inc. located in Sunlakes, Arizona, Irvin, Texas and Westwood, New Jersey.

The intent of the Department's certification is to include all workers of Atlas Textile Company, Inc., Commerce, California who were adversely affected by increased imports.

The amended notice applicable to TA-W-56,299 is hereby issued as follows:

“All workers of Atlas Textile Company, Inc., Commerce, California (TA-W-56,299), including employees of Atlas Textile Company, Inc., Commerce, California, located in Sunlakes, Arizona (TA-W-56,299A), Irving, Texas (TA-W-56,299B), and Westwood, New Jersey (TA-W-56,299C), who became totally or partially separated from employment on or after January 4, 2004, through February 8, 2007, are eligible to apply for adjustment assistance under Section 223 of the Trade Act of 1974, and are also eligible to apply for alternative trade adjustment assistance under Section 246 of the Trade Act of 1974.”

Signed at Washington, DC this 24th day of May 2005.
Elliott S. Kushner,
Certifying Officer, Division of Trade Adjustment Assistance.

[FR Doc. E5-2945 Filed 6-8-05; 8:45 am]

BILLING CODE 4510-30-P